DEPARTMENT OF TRANSPORTATION

Federal Aviation Administration

Harmonization Initiatives

AGENCY: Federal Aviation Administration, DOT.

ACTION: Notice of public meeting.

SUMMARY: The Federal Aviation Administration and the Joint Aviation Authorities will convene a meeting to accept input from the public on the Harmonization Work Program. The Harmonization Work Program is the means by which the Federal Aviation Administration and the Joint Aviation Authorities carry out a commitment to harmonize, to the maximum extent possible, the rules regarding the certification, operation and maintenance of civil aircraft, and the standards, practices, and procedures governing the design, materials, workmanship, and construction of civil aircraft, aircraft engines, and other components. The purpose of the meeting is to provide an opportunity for the public to submit input to the Harmonization Work Program. This notice announces the date, time, location and procedures for the public meeting.

DATES: The public meeting will be held on November 28 and November 30, 2000, starting at 10:30 a.m. each day. Industry comments, presentations and proposals must be received on or before November 10, 2000.

ADDRESSES: The public meeting will be held at the Latham Hotel, 3000 M Street, NW., Washington, DC, 20007.

Persons unable to attend the meeting may mail their comments in triplicate to: Brenda Courtney, Federal Aviation Administration, Office of Rulemaking (ARM-200), 800 Independence Avenue, SW., Washington, DC 20591. You may also submit your comments to Brenda Courtney by e-mail: brenda.courtney@faa.gov or by facsimile at (202) 267-5075.

FOR FURTHER INFORMATION CONTACT: Requests to attend and present a statement at the meeting or questions regarding the logistics of the meeting should be directed to Brenda Courtney, Office of Rulemaking, 800 Independence Avenue, SW., Washington, DC 20591; telephone (202) 267-3327, e-mail: brenda.courtney@faa.gov; or facsimile at (202) 267-3327.

SUPPLEMENTARY INFORMATION: Federal Aviation Administration (FAA) and the Joint Aviation Authorities (JAA) will convene a meeting to accept input from the public on the Harmonization Work Program. The meeting will be held on November 28 and November 30, 2000, at the Latham Hotel, 3000 M Street, NW., Washington, DC beginning at 10:30 a.m. each day. The agenda will include:

November 28, 2000

Review of Action Items from the March 2000 Public Meeting

Review of Action Items from the FAA/JAA 17th Annual Conference

Presentations from the Public

Nobember 30, 2000

FAA, JAA and Transport Canada News of Interest

General Session—Response to Industry Issues and Concerns

The Latham Hotel is located in the Georgetown area of Washington, DC. It is approximately 6 blocks from the Foggy Bottom/George Washington University Metrorail Stop (blue/orange lines). The hotel is approximately 6 miles from Washington Reagan National Airport, 25 miles from Dulles International Airport, and 40 miles from Baltimore/Washington International Airport. Parking is available for $20 per night for individuals who will be lodging at the hotel. For those individuals who plan to attend the meeting, but will not stay at the hotel, parking at the hotel will be $10 per day.

For hotel reservations at the Latham Hotel, please call (202) 726-5000 or 1-800-368-5922. Conference attendees should advise the hotel that you plan to attend the “FAA/JAA Harmonization Meeting”. The corporate rate offered for those attending the meeting is $129 plus 14½ percent sales tax or $147.71 per night for a single room. An additional $20 will be charged for double occupancy. Note that there is a 24-hour cancellation policy. The hotel will hold a block of rooms at this rate until October 26.

Participation at the Meeting

The FAA should receive requests from persons who wish to present oral and written statements at the public meeting no later than November 10, 2000. Statements and presentations should be provided on diskette or forwarded by e-mail to the person identified under the caption FOR FURTHER INFORMATION CONTACT to be made part of the official minutes of the meeting. Requests to present oral statements received after November 10 will be scheduled if time is available during the meeting.

Meeting Procedures

The following procedures are established to facilitate the meeting:

(1) There will be no admission fee or other charge to attend or to participate in the meeting. The meeting will be open to all persons who have requested in advance to present statements or who register on the day of the meeting, subject to availability of space in the meeting room.

(2) The meeting may adjourn early if scheduled speakers complete their statements in less than the time scheduled for the meeting.

(3) The FAA will try to accommodate all speakers. If the available time does not permit this, speakers generally will be scheduled on a first-come-first-served basis. However, the FAA reserves the right to exclude some speakers if necessary to present a balance of viewpoints and issues.

(4) Sign and oral interpretation can be made available at the meeting, as well as an assistive listening device, if requested at the above number listed under FOR FURTHER INFORMATION CONTACT at least 10 calendar days before the meeting.

(5) Representatives from FAA and JAA will preside over the meeting.

(6) The FAA and JAA will review and consider all material presented by participants at the meeting. Position papers or material presenting views or information related to proposed harmonization initiatives may be accepted at the discretion of the FAA and JAA. The FAA requests that persons participating in the meeting provide copies of all materials to be presented. Copies may be provided to the audience at the discretion of the participant.

(7) Statements made by the FAA and JAA are intended to facilitate discussion of issues or to clarify issues. Any statement made during the meeting by an official is not intended to be, and should not be construed as, a position of the FAA or JAA.

(8) The meeting is designed to solicit public views and more complete information on proposed harmonization initiatives. Therefore, the meeting will be conducted in an informal and nonadversarial manner. No individual will be subject to cross-examination by any other participant; however, panel members may ask questions to clarify a statement and to ensure a complete and accurate record.

Issued in Washington, DC, on October 18, 2000.
Brenda D. Courtney,
Manager, Aircraft and Airport Rules Division.

[FR Doc. 00-27333 Filed 10-24-00; 8:45 am]

BILLING CODE 4910-13-M